DEPARTMENT OF COMMERCE

National Oceanic and Atmospheric Administration

[RTID 0648-XC538]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a meeting of its Outreach and Education Technical Committee.

DATES: The meeting will convene on Tuesday, December 6, 2022, from 9 a.m. to 5 p.m., EST.

ADDRESSES: The meeting will take place at the Gulf Council Office. Please visit the Gulf Council website at www.gulfcouncil.org for meeting materials and webinar registration information.

Council address: Gulf of Mexico Fishery Management Council, 4107 W Spruce Street, Suite 200, Tampa, FL 33607; telephone: (813) 348-1630.

FOR FURTHER INFORMATION CONTACT: Emily Muehlstein, Public Information Officer, Gulf of Mexico Fishery Management Council; emily.muehlstein@gulfcouncil.org, telephone: (813) 348-1630.

SUPPLEMENTARY INFORMATION:

Tuesday, December 6, 2022; 9 a.m. Until 5 p.m., EST

The Meeting will begin with welcome, member and staff introductions, adoption of agenda, approval of August 1, 2022 meeting summary, and scope of work.

The Committee will review the 2022 Communication Improvement Plan, 2022 Communications Analytics and Communications Guidelines/SOPPs Review; including Presentations, Discussion/Recommendations and Regulations.

The Committee will review the MRIP Story Map, 2023 In-Person Event Outreach Plan Review, Fishery Ecosystem Plan Outreach Ideas, and Committee Recommendations and Presentations.

The Committee will discuss ideas for the 2023 Communications Improvement Plan and Other Business: Stony Coral Tissue Loss Disease. The Committee will take Public Comment before the meeting adjourns.

—Meeting Adjourns

The Agenda is subject to change, and the latest version along with other meeting materials will be posted on www.gulfcouncil.org.

Although other non-emergency issues not on the agenda may come before this group for discussion, in accordance with the Magnuson-Stevens Fishery Conservation and Management Act, those issues may not be the subject of formal action during this meeting. Actions will be restricted to those issues specifically identified in the agenda and any issues arising after publication of this notice that require emergency action under Section 305(c) of the Magnuson-Stevens Fishery Conservation and Management Act, provided the public has been notified of the Council's intent to take-action to address the emergency.

Special Accommodations

The meeting is physically accessible to people with disabilities. Requests for sign language interpretation or other auxiliary aid or accommodations should be directed to Kathy Pereira, kathy.pereira@gulfcouncil.org, at least 5 days prior to the meeting date.

Authority: 16 U.S.C. 1801 et seq.

Dated: November 14, 2022.
Diane M. DeJames-Daly,
Acting Deputy Director, Office of Sustainable Fisheries, National Marine Fisheries Service.

[FR Doc. 2022-25059 Filed 11-16-22; 8:45 am]

BILLING CODE 3510-22-P